DEPARTMENT OF HOUSING AND URBAN DEVELOPMENT

[Docket No. FR-7027-N-12]

60-Day Notice of Proposed Information Collection: Rental Assistance Demonstration (RAD); Supporting Contracts and Processing Requirements; OMB Control No.: 2502-0612

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 17, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Rental Assistance Demonstration (RAD); Supporting Contracts and Processing Requirements.

OMB Approval Number: 2502-0612.

OMB Expiration Date: 04/30/2020.

Type of Request: Revision of a currently approved collection.

Form Numbers: 52611, 52614, 52617, 52619, 52620A, 52620B, 52621A, 52624, 52625, 5679, 5977, 5978.

Description of the need for the information and proposed use: RAD allows Public Housing, Mod Rehab, Rent Supp, RAP, and 202 PRAC properties to convert to long-term project-based Section 8 rental assistance contracts. Participation in the demonstration is voluntary and HUD approval is discretionary. Participating Public Housing Agencies (PHAs) and Multifamily Owners are required to submit documentation for processing and completing the conversion. Through these documents (collectively, the RAD documents), HUD evaluates whether the PHA or owner has met all of the requirements necessary to complete conversion as outlined in Housing Notice 2019-09/PIH Notice 2019-23 (HA) Rental Assistance Demonstration—Final Implementation Notice (RAD Notice) Revision 4 and Housing/PIH Notice 2016-17—Rental Assistance Demonstration (RAD) Notice Regarding Fair Housing and Civil Rights Requirements and Relocation Requirements Applicable to RAD First Component—Public Housing Conversions or successor notices. The RAD processing request is made through a Web-based portal. Overall, the RAD documents and information requested through such documents allow HUD to determine which applicants continue to meet the eligibility and conversion requirements. Finally, all applicants will be required to sign the appropriate contractual documents to complete conversion and bind both the applicant and HUD, as well as set forth the rights and duties of the applicant and HUD, with respect to the converted project and any payments under that project. This is a revision request of a currently approved collection. Several changes have been made under both components of RAD. The changes under the First Component of RAD are as follows: The inclusion of the RAD Application under this ICR (formerly under OMB Approval Number 2577-0278), the reorganization and streamlining of RAD Fair Housing, Civil Rights, and Relocation Submission Requirements, an update of all forms to reflect programmatic changes and improvements over the past three years, the replacement of a rider to an existing PBV HAP contract with a single contract form that incorporates all requirements into a single form, the creation of a survey of new contract voucher administrators to ensure that the amount of funding provided for converted properties is adequate, and the creation of a Post-Closing Completion Certification form for owners to document compliance with certain requirements. In addition, under the Second Component of RAD, the changes are as follows: The creation of the Submission of Interest for owners to connect with HUD for technical assistance, the creation of HAP contracts for the conversion of Project Rental Assistance Contract (PRAC) to PBRA and PBV as well as the new Elderly Housing Use Agreement to be recorded on PRAC properties that have converted through RAD, an update of all forms to reflect programmatic changes and improvements over the past three years, and the implementation of the Mod Rehab data, a collection of owner information requested. Both Components of RAD will now have the incorporation of a Conversion Plan under the Second Component, modeled after the Financing Plan used in the First Component. Both components will also now include a collection of a post-closing completion certification to monitor compliance with requirements agreed to, as part of the conversion, and ensuring that any and all record-keeping that PHAs and owners must undertake to comply with requirements under the RAD Notice is acknowledged under this ICR.

Respondents (i.e. affected public): Public housing agencies and multifamily owners.

Estimated Number of Respondents: 370.

Estimated Number of Responses: 370.

Frequency of Response: Once per application.

Average Hours per Response: 23.

Total Estimated Burden: 5,919.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: May 12, 2020.
Nacheshia Foxx,
Federal Liaison for the Department of Housing and Urban Development.

[FR Doc. 2020-10521 Filed 5-15-20; 8:45 am]

BILLING CODE 4210-67-P